NUCLEAR REGULATORY COMMISSION

[NRC-2015-0159]

LR-ISG-2015-01, Changes to Buried and Underground Piping and Tank Recommendations

AGENCY: Nuclear Regulatory Commission.

ACTION: Interim staff guidance; issuance.

SUMMARY: The U.S. Nuclear Regulatory Commission (NRC) is issuing the final License Renewal Interim Staff Guidance (LR-ISG), LR-ISG-2015-01, “Changes to Buried and Underground Piping and Tank Recommendations.” This LR-ISG will replace NRC staff-recommended aging management program (AMP) XI.M41, “Buried and Underground Piping and Tanks,” and its associated Updated Final Safety Evaluation Report (UFSAR) Summary Description in LR-ISG-2011-03, “Changes to the Generic Aging Lessons Learned (GALL) Report Revision 2 AMP XI.M41, `Buried and Underground Piping and Tanks'.” These changes address new recommendations related to buried and underground piping and tanks within the scope of the NRC's regulations for the renewal of operating licenses for nuclear power plants.

ADDRESSES: Please refer to Docket ID NRC-2015-0159 when contacting the NRC about the availability of information regarding this document. You may obtain publicly-available information related to this document using any of the following methods:

• Federal Rulemaking Web site: Go to http://www.regulations.gov and search for Docket ID NRC-2015-0159. Address questions about NRC dockets to Carol Gallagher; telephone 301-415-3463; email: Carol.Gallagher@nrc.gov. For technical questions, contact the individuals listed in the FOR FURTHER INFORMATION CONTACT section of this document.

• NRC's Agencywide Document Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final LR-ISG-2015-01 is available electronically in ADAMS under Accession No. ML15308A018.

• NRC's PDR: You may examine and purchase copies of public documents at the NRC's PDR, Room O1-F21, One White Flint North, 11555 Rockville Pike, Rockville, Maryland 20852.

• NRC's Interim Staff Guidance Web Site: LR-ISG documents are also available online under the “License Renewal” heading at http://www.nrc.gov/reading-rm/doc-collections/isg/license-renewal.html.

FOR FURTHER INFORMATION CONTACT: William Holston, telephone: 301-415-8573; email: William.Holston@nrc.gov or Brian Allik, telephone: 301-415-1082; email: Brian.Allik@nrc.gov. Both are staff of the Office of Nuclear Reactor Regulation, U.S. Nuclear Regulatory Commission, Washington, DC 20555-0001.

SUPPLEMENTARY INFORMATION:

Background

The NRC issues LR-ISGs to communicate insights and lessons learned and to address emergent issues not covered in license renewal guidance documents, such as the GALL Report, NUREG-1801, Rev. 2 (Dec. 2010), and the Standard Review Plan for Review of License Renewal Applications for Nuclear Power Plants (SRP-LR), NUREG-1800, Rev. 2 (Dec. 2010), which are available under ADAMS Accession Nos. ML103490041 and ML103490036, respectively. In this way, the NRC staff and stakeholders may use the guidance in an LR-ISG document before it is incorporated into a formal license renewal guidance document revision. The NRC staff issues LR-ISGs in accordance with the LR-ISG Process, Revision 2 (ADAMS Accession No. ML100920158), for which a notice of availability was published in the Federal Register on June 22, 2010, (75 FR 35510).

The NRC staff has developed LR-ISG-2015-01 to address new recommendations related to buried and underground piping and tanks within the scope of part 54 of title 10 of the Code of Federal Regulations (10 CFR), “Requirements for Renewal of Operating Licenses for Nuclear Power Plants.”

On June 29, 2015, (80 FR 37028) the NRC requested public comments on draft LR-ISG-2015-01 (ADAMS Accession No. ML15125A377).

The NRC received comments from the Nuclear Energy Institute by letter dated August 6, 2015, (ADAMS Accession No. ML15225A076), Hank Kleinfelder by letter dated August 6, 2015, (ADAMS Accession No. ML15225A077), Anonymous by letter dated August 7, 2015, (ADAMS Accession No. ML15225A078), Kevin Anstee for Entergy—River Bend Station by letter dated August 10, 2015, (ADAMS Accession No. ML15244A392), and Steven Daily by letter dated August 10, 2015, (ADAMS Accession No. ML15244A391). No other comments were submitted. The NRC considered these comments in developing the final LR-ISG. Detailed responses to the comments can be found in Appendix D of the final LR-ISG.

The final LR-ISG-2015-01 is approved for NRC staff and stakeholder use and will be incorporated into the NRC's next formal license renewal guidance document revision.

Congressional Review Act

This ISG is a rule as defined in the Congressional Review Act (5 U.S.C. 801-808). However, the Office of Management and Budget has not found it to be a major rule as defined in the Congressional Review Act.

Backfitting and Issue Finality

Issuance of this final LR-ISG does not constitute backfitting as defined in 10 CFR 50.109 (the Backfit Rule) and is not otherwise inconsistent with the issue finality provisions in 10 CFR part 52, “Licenses, Certifications, and Approvals for Nuclear Power Plants.” As discussed in the “Backfitting and Issue Finality” section of the final LR-ISG-2015-01, the LR-ISG is directed to holders of operating licenses or combined licenses who are currently in the license renewal process. The LR-ISG is not directed to holders of operating licenses or combined licenses until they apply for license renewal. The LR-ISG is also not directed to licensees who already hold renewed operating or combined licenses. However, the NRC could also use the LR-ISG in evaluating voluntary, licensee-initiated changes to previously approved aging management programs.

Dated at Rockville, Maryland, this 29th day of January, 2016.
For the Nuclear Regulatory Commission.
Jane E. Marshall,
Deputy Director, Division of License Renewal, Office of Nuclear Reactor Regulation.

[FR Doc. 2016-02122 Filed 2-3-16; 8:45 am]

BILLING CODE 7590-01-P